DEPARTMENT OF DEFENSE

GENERAL SERVICES ADMINISTRATION

NATIONAL AERONAUTICS AND SPACE ADMINISTRATION

48 CFR Part 6

[FAC 2005-27; FAR Case 2007-007; Item V; Docket 2008-001; Sequence 17]

RIN 9000-AL08

Federal Acquisition Regulation; FAR Case 2007-007, Additional Requirements for Competition Advocate Annual Reports

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to require that annual reviews by executive agency competition advocates be provided in writing to both the agency senior procurement executive and the agency chief acquisition officer, if designated, and that the reports specifically address the quality of planning, executing, and managing of task and delivery orders over $1 million.

DATES: Effective Date: October 17, 2008.

FOR FURTHER INFORMATION CONTACT Mr. Ernest Woodson, Procurement Analyst, at (202) 501-3775 for clarification of content. For information pertaining to status or publication schedules, contact the FAR Secretariat at (202) 501-4755. Please cite FAC 2005-27, FAR case 2007-007.

SUPPLEMENTARY INFORMATION:

A. Background

The Administrator of the Office of Federal Procurement Policy (OFPP) issued a memorandum dated May 31, 2007, entitled “Enhancing Competition in Federal Acquisition”, to executive agency chief acquisition officers and senior procurement executives that outlined several initiatives for enhancing competition in Federal acquisition. The agency competition advocates are required to describe initiatives that ensure task and delivery orders over $1,000,000 issued under multiple award contracts are properly planned, issued, and comply with 8.405 and 16.505 in a report to the agency senior procurement executive and the agency chief acquisition officer. An attachment to the Administrator's May 31, 2007 memorandum entitled, Enhancing Competition in Federal Acquisition, contains a list of questions designed to assist competition advocates in assessing the quality of competitive practices at their agencies. The policy memorandum and attachment can be found at http://www.whitehouse.gov/omb/procurement/comp_contracting/competition_memo_053107.pdf. This FAR case implements this policy change.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Part 6 in accordance with 5 U.S.C. 610. Interested parties must submit such comments separately and should cite 5 U.S.C. 601, et seq. (FAC 2005-27, FAR case 2007-007), in correspondence.

C. Paperwork Reduction Act

The Paperwork Reduction Act does not apply because the changes to the FAR do not impose information collection requirements that require the approval of the Office of Management and Budget under 44 U.S.C. 3501, et seq.

List of Subjects in 48 CFR Part 6

Government procurement.

Dated: September 9, 2008.
Al Matera,
Director, Office of Acquisition Policy.

Therefore, DoD, GSA, and NASA amend 48 CFR part 6 as set forth below:

PART 6—COMPETITION REQUIREMENTS

1. The authority citation for 48 CFR part 6 continues to read as follows:

Authority: 40 U.S.C. 121(c); 10 U.S.C. chapter 137; and 42 U.S.C. 2473(c).

2. Amend section 6.502 by—

a. Revising the introductory text of paragraphs (b)(1) and (b)(2);

b. Removing from the end of the paragraph (b)(2)(v) the word “and”;

c. Adding to the end of paragraph (b)(2)(vi) the word “and”;

d. Adding a new paragraph (b)(2)(vii); and

e. Revising paragraphs (b)(3) and (b)(4) to read as follows:

6.502 Duties and Responsibilities.

(b) * * *

(1) Review the contracting operations of the agency and identify and report to the agency senior procurement executive and the chief acquisition officer—

(2) Prepare and submit an annual report to the agency senior procurement executive and the chief acquisition officer in accordance with agency procedures, describing—

(vii) Initiatives that ensure task and delivery orders over $1,000,000 issued under multiple award contracts are properly planned, issued, and comply with 8.405 and 16.505.

(3) Recommend goals and plans for increasing competition on a fiscal year basis to the agency senior procurement executive and the chief acquisition officer; and

(4) Recommend to the agency senior procurement executive and the chief acquisition officer a system of personal and organizational accountability for competition, which may include the use of recognition and awards to motivate program managers, contracting officers, and others in authority to promote competition in acquisition.

[FR Doc. E8-21388 Filed 9-16-08; 8:45 am]

BILLING CODE 6820-EP-S